DEPARTMENT OF AGRICULTURE

Rural Utilities Service

Minnkota Power Cooperative, Inc.: Notice of Finding of No Significant Impact

AGENCY: Rural Utilities Service, USDA.

ACTION: Notice of Finding of No Significant Impact.

SUMMARY: Notice is hereby given that the Rural Utilities Service (RUS) has made a Finding of No Significant Impact (FONSI) with respect to a request for possible financial assistance to Minnkota Power Cooperative, Inc. (Minnkota Power) for the construction of the proposed Distribution Substation and Overhead Transmission Line for the Keystone Pipeline Pump Station No. 17 Project in Steele County, North Dakota.

ADDRESSES: The Environmental Assessment (EA) and FONSI are available for public review at USDA Rural Utilities Service, 1400 Independence Avenue, SW., Washington, DC 20250-1571; at Minnkota Power's headquarters office; and at the Steele County Auditor's Office in Finley, North Dakota.

Contacts: To obtain copies of the EA or FONSI or for further information, contact Mr. Richard Fristik, Senior Environmental Protection Specialist, Engineering and Environmental Staff, Stop 1571, 1400 Independence Avenue, SW., Washington, DC 20250-1571, telephone: (202) 720-5093 or e-mail: richard.fristik@wdc.usda.gov.

SUPPLEMENTARY INFORMATION: The study area for the proposed project is in Steele County, North Dakota. The proposal involves the construction of a substation on ¼ acre of land inside the fenced area of the Keystone Pipeline Pump Station No. 17 site, construction of an 11.75-mile 69 kV transmission line, and upgrading of 17.34 miles of existing 69 kV transmission line. The new line would be constructed in existing distribution line rights-of-way and would connect the new substation to an existing Minnkota transmission line.

No significant environmental impacts resulting from the proposal have been identified. Therefore, RUS is satisfied that the environmental impacts of the proposal have been adequately addressed and has determined that this FONSI fulfills its obligations under the National Environmental Policy Act, as amended (42 U.S.C. 4321 et seq.), the Council on Environmental Quality Regulations (40 CFR 1500-1508), and RUS' Environmental Policies and Procedures (7 CFR Part 1794). An Environmental Impact Statement will not be prepared for this proposal.

Dated: August 24, 2009.
Nivin Elgohary,
Acting Assistant Administrator—Electric, Rural Utilities Service.

[FR Doc. E9-20774 Filed 8-27-09; 8:45 am]

BILLING CODE P